DEPARTMENT OF HEALTH AND HUMAN SERVICES

Indian Health Service

Tribal Management Grant Program; Correction

AGENCY: Indian Health Service, HHS.

ACTION: Notice; correction.

SUMMARY: The Indian Health Service published a document in the Federal Register on April 7, 2016, for the FY 2016 Tribal Management Grant Program. The notice contained the incorrect Fiscal Year regarding funding availability.

FOR FURTHER INFORMATION CONTACT: Michelle Eagle Hawk, Deputy Director, Office of Direct Service and Contracting Tribes, Indian Health Service, 5600 Fishers Lane, Mail Stop 08E17, Rockville, MD 20857, telephone (301) 443-1104. (This is not a toll-free number.)

Correction

In the Federal Register of April 7, 2016, in FR Doc. 2016-07950, on page 20396, in the second column, under the heading “II. Award Information, Estimated Funds Available,” the correct first sentence should read as follows:

The total amount of funding identified for the current fiscal year (FY) 2016 is approximately $2,412,000.

Dated: May 4, 2016.
Mary Smith,
Principal Deputy Director, Indian Health Service.

[FR Doc. 2016-11545 Filed 5-13-16; 8:45 am]

BILLING CODE 4165-16-P